DEPARTMENT OF JUSTICE

Federal Bureau of Investigation

[OMB Number 1110-0045]

Agency Information Collection Activities; Proposed Collection, Comments Requested; Customer Satisfaction Assessment

ACTION: 30-day notice of information collection under review.

The Department of Justice, Federal Bureau of Investigation, Laboratory Division will be submitting the following information collection request to the Office of Management and Budget (OMB) for review and clearance in accordance with established review procedures of the Paperwork Reduction Act of 1995. The proposed information collection is published to obtain comments from the public and affected agencies. Comments are encouraged and will be accepted until September 17, 2012. This process is conducted in accordance with 5 CFR 1320.10.

All comments and suggestions, or questions regarding additional information, to include obtaining a copy of the proposed information collection instrument with instructions, should be directed to Catherine E. Theisen, Quality Manager, FBI Laboratory, 2501 Investigation Parkway, Quantico, Virginia 22135.

Written comments and suggestions from the public and affected agencies concerning the proposed collection of information are encouraged. Comments should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including the use of automated, electronic, mechanical, or other technological collection techniques of other forms of information technology, e.g., permitting electronic submission of responses.

Overview of This Information Collection

1. Type of information collection: Customer survey.

2. The title of the form/collection: Customer Satisfaction Assessment.

3. The agency form number, if any, and the applicable component of the department sponsoring the collection: Form (form number to be assigned by the forms desk); Laboratory Division, Federal Bureau of Investigation, Department of Justice.

4. Affected public who will be asked or required to respond, as well as a brief abstract: Primary—Local and state law enforcement agencies. This collection is needed to evaluate the quality of services provided by the FBI Laboratory.

5. An estimate of the total number of respondents and the amount of time estimated for an average respondent to respond: It is estimated that there will be 5,000 respondents at 5 minutes per form.

6. An estimate of the total public burden (in hours) associated with this collection: There are approximately 416 hours annual burden associated with this information collection.

If additional information is required contact: Jerri Murray, Department Clearance Officer, Justice Management Division, United States Department of Justice, Policy and Planning Staff, Two Constitution Square, 145 N Street NE., Room 2E-508, Washington, DC 20530.

Jerri Murray,
Department Clearance Officer, PRA, United States Department of Justice.

[FR Doc. 2012-20187 Filed 8-16-12; 8:45 am]

BILLING CODE 4410-02-P